CONSUMER PRODUCT SAFETY COMMISSION

Sunshine Act Meeting Notice

TIME AND DATE: Wednesday, September 20, 2017, 10:00 a.m.-12:00 p.m.

PLACE: Hearing Room 420, Bethesda Towers, 4330 East West Highway, Bethesda, MD.

STATUS: Commission Meeting—Open to the Public.

Matter To Be Considered: Decisional Matter: Petition HP 15-1 Requesting Rulemaking on Certain Products Containing Organohalogen Flame Retardants.

A live webcast of the Meeting can be viewed at https://www.cpsc.gov/live.

CONTACT PERSON FOR MORE INFORMATION: Rockelle Hammond, Office of the Secretary, U.S. Consumer Product Safety Commission, 4330 East West Highway, Bethesda, MD 20814, (301) 504-7923.

Dated: September 13, 2017.
Alberta E. Mills,
Acting Secretary.

[FR Doc. 2017-19756 Filed 9-13-17; 4:15 pm]

BILLING CODE 6355-01-P